DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in the Cities of San Bernardino and Redlands, CA, and the Cities of Santa Ana and Garden Grove, CA. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before September 3, 2015.

FOR FURTHER INFORMATION CONTACT: Nancy-Ellen Zusman, Assistant Chief Counsel, Office of Chief Counsel, (312) 353-2577 or Terence Plaskon, Environmental Protection Specialist, Office of Environmental Programs, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA administrative record for the projects. Interested parties may contact either the project sponsor or the relevant FTA Regional Office for more information on each project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Redlands Passenger Rail Project, Cities of San Bernardino and Redlands, CA. Project sponsor: San Bernardino Association of Governments (SANBAG). Project description: The proposed project would create new passenger rail operations along an approximately nine-mile corridor from the E Street Station and San Bernardino Transit Center in Downtown San Bernardino to the University of Redlands, east of Downtown Redlands. Final agency actions: Section 4(f) determination; Section 106 finding of no adverse effect; project-level air quality conformity; and Final Environmental Impact Statement/Environmental Impact Report/Record of Decision, dated February 17, 2015.

2. Project name and location: Santa Ana-Garden Grove Fixed Guideway Project, Cities of Santa Ana and Garden Grove, CA. Project sponsor: City of Santa Ana, in coordination with the Orange County Transportation Authority and City of Garden Grove. Project description: The proposed project is an approximately 4.2-mile new streetcar system in Orange County running between the Santa Ana Regional Transportation Center (SARTC) in the City of Santa Ana and a new multimodal center at Harbor Boulevard/Westminster Avenue in the City of Garden Grove. The system includes 24 stations, an overhead contact system and series of traction power substations, and a new operations and maintenance facility near SARTC. Final agency actions: Section 4(f) de minimis impact determination; Section 106 finding of no adverse effect; project-level air quality conformity; and Finding of No Significant Impact, dated March 10, 2015. Supporting documentation: Revised Environmental Assessment/Final Environmental Impact Report, dated January 2015.

Issued on: March 31, 2015.
Lucy Garliauskas,
Associate Administrator Planning and Environment.

[FR Doc. 2015-07812 Filed 4-3-15; 8:45 am]

BILLING CODE 4910-57-P